OFFICE OF THE UNITED STATES TRADE REPRESENTATIVE

DEPARTMENT OF STATE

DEPARTMENT OF THE INTERIOR

[Docket Number USTR-2024-0019]

Request for Comments on Potential Import Prohibitions on Certain Products From the People's Republic of China Pursuant to the Pelly Amendment

AGENCIES: Office of the United States Trade Representative (USTR); U.S. Department of State (State); U.S. Department of the Interior (Interior).

ACTION: Request for comments.

SUMMARY: Following from the United States' certification of the People's Republic of China (PRC) under the Pelly Amendment, the President is considering various import prohibition options on the basis that PRC nationals are engaging in trade or taking of pangolins that diminishes the effectiveness of the Convention on International Trade in Endangered Species of Wild Fauna and Flora (CITES). To inform the President's decision-making, USTR, State, and Interior are seeking public comments concerning whether to impose import prohibitions and what the scope and product coverage of any import prohibitions should be. Neither this notice nor any information that the requesting agencies provide to inform the President's decision constitutes or reflects any final decision.

DATES: Submit comments no later than November 14, 2024.

ADDRESSES: USTR, State, and Interior strongly prefer electronic submissions made through the Federal eRulemaking Portal: https://www.regulations.gov. See the submission instructions below. The Docket Number is USTR-2024-0019.

FOR FURTHER INFORMATION CONTACT: For information regarding the Pelly Amendment certification of the PRC, contact Naimah Aziz, Head, Division of Management Authority, International Affairs, U.S. Fish and Wildlife Service, at 703.358.2028, fwsrfipelly@fws.gov. For trade-related information, contact Amanda Mayhew, Deputy Assistant U.S. Trade Representative, USTR Environment & Natural Resources, at 202.395.9629, amanda.b.mayhew@ustr.eop.gov.

SUPPLEMENTARY INFORMATION:

I. Background

On November 3, 2023, the President notified Congress of the Secretary of the Interior's certification, pursuant to section 8(b) of the Fishermen's Protective Act of 1967, as amended (the Pelly Amendment) (22 U.S.C. 1978), that PRC nationals are engaging in trade or taking of all eight species of pangolins that diminishes the effectiveness of CITES. Since 2017, all species of pangolin have been included in Appendix I of CITES, which lists species threatened with extinction that are or may be affected by trade. With limited exceptions, CITES prohibits international trade for primarily commercial purposes in Appendix I-listed species. Despite this prohibition, the PRC remains the largest destination country for pangolin scales. All eight species of pangolins are threatened with extinction primarily due to the ongoing demand for their body parts, including scales, for medicinal purposes and consumption, according to the International Union for Conservation of Nature (IUCN) Red List of Threatened Species.

In his notification to Congress on November 3, the President reported that, although the PRC has taken some steps to curtail pangolin trafficking, concerns remain about the significant demand for pangolin scales in the PRC and its domestic system, which allows for the legal commercial trade of pangolin scales for medicinal use from national stockpiles. The President further stated that the PRC must do more to close domestic markets for pangolins and pangolin specimens that provide cover for the illegal market (one of the actions that the CITES Parties recently amended Resolution Conf. 17.10 (CoP19) Conservation and Trade in Pangolins to include). Without further actions by the PRC to address these conservation threats to pangolins, the President's notification stated “it is likely that pangolin populations will continue to decline, bringing the species closer to extinction.” Given the complexity of this issue, the President determined it appropriate to proceed with additional discussions, a routine process for nations certified under the Pelly Amendment, between the United States and the PRC. The PRC's actions taken to date have been insufficient to lift the certification.

Pursuant to the Pelly Amendment (22 U.S.C. 1978(a)(5)), the President now is considering whether to direct the Secretary of the Treasury to prohibit the importation of certain products from the PRC into the United States. To that end, the President seeks the advice of USTR, State and Interior to evaluate the scope and implications of potential import prohibitions. The President's determination may be informed by public comments received in response to this notice, and any progress made by the PRC in implementing CITES measures.

U.S. authorities will continue to review the facts underlying the certification and engage with the PRC to effect meaningful results in the effort to conserve pangolin populations and eliminate illegal trade in pangolins. Any import prohibitions ultimately imposed by the President would remain in effect until the President determines that they no longer are appropriate or until the Secretary of the Interior, in consultation with the Secretary of State, determines that the reasons for which the Pelly Amendment certification was made no longer prevail and terminates the certification. Neither this notice nor any information that USTR, State and Interior provide to inform the President's decision constitutes or reflects any final decision.

II. Public Comment

USTR, State and Interior invite interested persons to submit comments concerning whether and what import prohibition is appropriate, specifically regarding economic and environmental effects of any such prohibitions, including:

• Whether to prohibit the importation of any product(s) of the PRC pursuant to the certification under the Pelly Amendment that PRC nationals are engaging in trade or taking of pangolins that diminishes the effectiveness of CITES.

• What product(s) to prohibit.

• The degree to which prohibiting the importation of any particular product might have a positive or negative economic or environmental effect.

• Actions other than import prohibitions that would help bring about an end to illegal trade in these imperiled species.

Comments should include sufficient information, such as scientific journal articles or other publications, to allow verification of any scientific or commercial information submitted. Submissions including supporting information will be of greater assistance than submissions merely stating support for, or opposition to, a particular recommended action.

III. Requirements for Submissions

To be assured of consideration, submit your written comments by the November 14, 2024 deadline. All submissions must be in English. USTR, State and Interior strongly encourages submissions via regulations.gov, using Docket Number USTR-2024-0019. USTR will not accept hand-delivered submissions. To make a submission via regulations.gov, enter docket number USTR-2024-0019 on the home page and click `search.' The site will provide a search-results page listing all documents associated with this docket. Find a reference to this notice by selecting `notice' under `document type' and click in the `refine document results' section on the left side of the screen and click on the link entitled `comment.' Regulations.gov allows users to submit comments by filling in a `type comment' field, or by attaching a document using an `upload file' field. USTR prefers that you provide submissions in an in an attached document and note `see attached' in the `comment' field on the online submission form.

USTR, State and Interior prefer submissions in Microsoft Word (.doc) or Adobe Acrobat (.pdf). If you use an application other than those two, please indicate the name of the application in the `type comment' field.

On the first page of the submission, identify the subject matter of the comment as “Request for Comments on Potential Import Prohibitions on Certain Products from the People's Republic of China Pursuant to the Pelly Amendment”. File names should reflect the name of the person or entity submitting the comments. Please do not attach separate cover letters, exhibits, annexes or other attachments to electronic submissions. Instead, to the extent possible, please include these in the same file as the submission itself. Submissions should not exceed 30 single-spaced, standard letter-size pages in 12-point type, including attachments.

You will receive a tracking number upon completion of the submission procedure at Regulations.gov. The tracking number is confirmation that Regulations.gov received your submission. Keep the confirmation for your records.

USTR is not able to provide technical assistance for Regulations.gov. For further information on using Regulations.gov, please consult the resources provided on the website by clicking on `How to Use Regulations.gov' on the bottom of the home page. USTR may not consider submissions that are not made in accordance with these instructions.

If you are unable to submit comments as requested, please contact Amanda Mayhew, Deputy Assistant U.S. Trade Representative, USTR Environment & Natural Resources, at 202.395.9629, amanda.b.mayhew@ustr.eop.gov, before transmitting a comment and in advance of the deadline to arrange for an alternative method of transmission.

General information concerning USTR is available at https://www.ustr.gov.

IV. Business Confidential Information (BCI) Submissions

If you ask information you submit to be treated as BCI, you must certify that the information is business confidential and you would not customarily release it to the public. For any comments submitted electronically containing BCI, the file name of the business confidential version should begin with the characters `BCI.' You must clearly mark any page containing BCI with `BUSINESS CONFIDENTIAL' at the top of that page. Additionally, you must include `Business Confidential' in the `type comment' field. Filers of submissions containing BCI also must submit a public version of their submission that will be placed in the docket for public inspection. The file name of the public version should begin with the character `P.' The TPSC will post the non-confidential version in the docket and it will be open to public inspection.

V. Public Viewing of Review Submissions

Written submissions will be posted in the docket for public inspection, except properly designated BCI. You can view submissions at regulations.gov by entering Docket Number USTR-2024-0019 in the search field on the home page.

Amanda Mayhew,
Deputy Assistant U.S. Trade Representative for Environment and Natural Resources, Office of the United States Trade Representative.
Matthew Strickler,
Deputy Assistant Secretary for Fish and Wildlife and Parks, U.S. Department of the Interior.
Scott B. Ticknor,
Deputy Assistant Secretary for Environment, Acting U.S. Department of State.

[FR Doc. 2024-23639 Filed 10-11-24; 8:45 am]

BILLING CODE 3290-F4-P